NUCLEAR REGULATORY COMMISSION

10 CFR Parts 50 and 52

[NRC-2020-0245]

Regulatory Guide: Environmental Qualification of Certain Electric Equipment Important to Safety for Nuclear Power Plants

AGENCY: Nuclear Regulatory Commission.

ACTION: Final guide; issuance.

SUMMARY: The U.S. Nuclear Regulatory Commission (NRC) is issuing Revision 2 to Regulatory Guide (RG) 1.89, “Environmental Qualification of Certain Electric Equipment Important to Safety for Nuclear Power Plants.” RG 1.89, Revision 2 provides guidance that the staff of the NRC considers acceptable to meet regulatory requirements for environmental qualification (EQ) of certain electric equipment important to safety.

DATES: Revision 2 to RG 1.89 is available on May 3, 2023.

ADDRESSES: Please refer to Docket ID NRC-2020-0245 when contacting the NRC about the availability of information regarding this document. You may obtain publicly available information related to this document using any of the following methods:

• Federal Rulemaking Website: Go to https://www.regulations.gov and search for Docket ID NRC-2020-0245. Address questions about Docket IDs in Regulations.gov to Stacy Schumann; telephone: 301-415-0624; email: Stacy.Schumann@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: You may examine and purchase copies of public documents, by appointment, at the NRC's Public Document Room (PDR), Room P1 B35, One White Flint North, 11555 Rockville Pike, Rockville, Maryland 20852. To make an appointment to visit the PDR, please send an email to PDR.Resource@nrc.gov or call 1-800-397-4209 or 301-415-4737, between 8 a.m. and 4 p.m. eastern time (ET), Monday through Friday, except Federal holidays.

Revision 2 to RG 1.89 and the regulatory analysis may be found in ADAMS under Accession Nos. ML22272A602 and ML20192A230, respectively.

Regulatory guides are not copyrighted, and NRC approval is not required to reproduce them.

FOR FURTHER INFORMATION CONTACT: Michael Eudy, Office of Nuclear Regulatory Research, telephone: 301-415-3104; email: Michael.Eudy@nrc.gov and Matthew McConnell, Office of Nuclear Reactor Regulation, telephone: 301-415-1597; email: Matthew.McConnell@nrc.gov. Both are staff of the U.S. Nuclear Regulatory Commission, Washington, DC 20555-0001.

SUPPLEMENTARY INFORMATION:

I. Discussion

The NRC is issuing a revision in the NRC's “Regulatory Guide” series. This series was developed to describe methods that are acceptable to the NRC staff for implementing specific parts of the agency's regulations, to explain techniques that the staff uses in evaluating specific issues or postulated events, and to describe information that the staff needs in its review of applications for permits and licenses.

Revision 2 to RG 1.89 was issued with a temporary identification of Draft Regulatory Guide, DG-1361 (ADAMS Accession No. ML20183A423).

The staff revised RG 1.89 to endorse, with clarifications, exceptions, and supplements, International Electrotechnical Commission/Institute of Electrical and Electronic Engineers Standard 60780-323, “Nuclear Facilities—Electrical Equipment Important to Safety—Qualification,” Edition 1, 2016-02, as this standard reflects almost 40 years of experience gained in implementing regulatory requirements and industry research and testing related to environmental qualification (EQ). Nuclear plant license renewal provides additional motivation for continuing attention to equipment qualification. This revised guide contains information specific for EQ for both older plants and newer reactors licensed under parts 50 and 52 of title 10 of the Code of Federal Regulations (10 CFR).

II. Additional Information

The NRC published notices of the availability of DG-1361 in the Federal Register on December 17, 2020 (85 FR 81958) and February 18, 2021 (86 FR 10133) for 60-day public comment periods. The public comment periods closed on February 16, 2021, and April 19, 2021, respectively. Public comments on DG-1361 and the staff responses to the public comments are available under ADAMS under Accession No. ML22272A601.

As noted in the Federal Register on December 9, 2022 (87 FR 75671), this document is being published in the “Rules” section of the Federal Register to comply with publication requirements under 1 CFR chapter I.

III. Congressional Review Act

This RG is a rule as defined in the Congressional Review Act (5 U.S.C. 801-808). However, the Office of Management and Budget has not found it to be a major rule as defined in the Congressional Review Act.

IV. Backfitting, Forward Fitting, and Issue Finality

Issuance of RG 1.89, Revision 2, does not constitute backfitting as defined in 10 CFR 50.109, “Backfitting,” and as described in NRC Management Directive (MD) 8.4, “Management of Backfitting, Forward Fitting, Issue Finality, and Information Requests”; affect the issue finality of an approval issued under 10 CFR part 52; or constitute forward fitting as defined in MD 8.4 because, as explained in this RG, licensees are not required to comply with the positions set forth in this RG.

V. Submitting Suggestions for Improvement of Regulatory Guides

A member of the public may, at any time, submit suggestions to the NRC for improvement of existing RGs or for the development of new RGs. Suggestions can be submitted on the NRC's public website at https://www.nrc.gov/reading-rm/doc-collections/reg-guides/contactus.html. Suggestions will be considered in future updates and enhancements to the “Regulatory Guide” series.

Dated: April 28, 2023.
For the Nuclear Regulatory Commission.
Meraj Rahimi,
Chief, Regulatory Guide and Programs Management Branch, Division of Engineering, Office of Nuclear Regulatory Research.

[FR Doc. 2023-09389 Filed 5-2-23; 8:45 am]

BILLING CODE 7590-01-P